DEPARTMENT OF DEFENSE

Department of the Army; Corps of Engineers

Chief of Engineers Environmental Advisory Board

AGENCY: Department of the Army, U.S. Army Corps of Engineers DoD.

ACTION: Notice of open meeting.

SUMMARY: In accordance with Section 10(a)(2) of the Federal Advisory Committee Act (Pub. L. 92-463), announcement is made of the following committee meeting:

Name of Committee: Chief of Engineers Environmental Advisory Board (EAB).

Topic: The EAB will discuss national considerations related to ecosystem restoration through integrated water resources management with emphasis on building collaborative partnerships, coastal issues and climate change.

Date of Meeting: January 22, 2010.

Place: The Battle House Hotel, 26 North Royal Street, Mobile, AL 36602.

Time: 9 a.m. to 12 p.m.

Thirty minutes will be set aside for public comment. Members of the public who wish to speak are asked to register prior to the start of the meeting. Registration will begin at 8:30 a.m. Statements are limited to 3 minutes.

FOR FURTHER INFORMATION CONTACT: Ms. Rennie Sherman, Executive Secretary, rennie.h.sherman@usace.army.mil, 202-761-7771.

SUPPLEMENTARY INFORMATION: The EAB advises the Chief of Engineers by providing expert and independent advice on environmental issues facing the Corps of Engineers. The public meeting will include discussion between the EAB and the Chief of Engineers as well as presentations by the EAB and Corps staff. The meeting is open to the public, and public comment is tentatively scheduled for 30 minutes beginning at 11:15 a.m.

Brenda S. Bowen,
Army Federal Register Liaison Officer.

[FR Doc. E9-30755 Filed 12-28-09; 8:45 am]

BILLING CODE 3720-58-P